DEPARTMENT OF ENERGY

Federal Energy Regulatory Commission

Notice of Offer of Settlement and Application for Amendment of License

February 2, 2000.

Take notice that the following hydroelectric application has been filed with the Commission and is available for public inspection:

a. Application Type: Offer of Settlement and Amendment of License.

b. Project No: 2342-011.

c. Date Filed: October 21, 1999.

d. Applicant: PacifiCorp.

e. Name of Project: Condit.

f. Location: The project is located on the White Salmon River in Skamania and Klickitat Counties, Washington.

g. Filed Pursuant to: Federal Power Act, 16 U.S.C. §§ 79(a)-825(r), and Rule 602 of the Commission's Rules of Practice and Procedure, 18 CFR 385.602 (1999).

h. Applicant Contacts: Mr. Randy Landolt, Managing Director Hydro Resources Group, PacifiCorp, 825 NE Multnomah Street, Suite 1500, Portland, OR 97232, (503) 813-6651; Mr. Thomas H. Nelson, Mr. Jeffrey S. Lovinger, Law Offices of Thomas H. Nelson and Associates, 825 NE Multnomah Street, Suite 925, Portland, OR 97232, (503) 230-8311; and Mr. Robert A. Nelson, Stoel Rives LLP, 1275 K Street, Suite 810, Washington, DC 20005-4006, (202) 408-2102.

i. FERC Contact: Any questions on this notice should be addressed to Dave Snyder at (202) 219-2385 or by e-mail at david.snyder@ferc.fed.us

j. Filing the Removal Plan associated with the Settlement Agreement: It appears, based upon the contents of the Offer of Settlement and of the Settlement Agreement, Section 2.1, that PacifiCorp may intend a portion of the draft Condit Hydroelectric Project Removal Summary Report, Engineering Considerations, filed on June 19, 1998, referenced as the “Removal Plan,” to be included as a part of the Settlement Agreement. Section 2.1 of the Agreement provides for PacifiCorp to file a copy of the Removal Plan, and such filing will make the Offer of Settlement complete.

k. Deadline for filing comments and or motions: March 15, 2000 or 45 days after the filing of the Removal Plan with the Commission, whichever occurs later.

All documents (original and eight copies) should be filed with: David P. Boergers, Secretary, Federal Energy Regulatory Commission, 888 First Street, NE, Washington, DC 20426. Please include the Project Number (Project No. 2342-011) on any comments or motions filed.

Under Rule 602(f)(3), 18 CFR 602(f)(3) (1999), a failure to file comments on the settlement agreement constitutes a waiver of all objections to the Offer of Settlement.

l. Description of Filing: PacifiCorp filed an Offer of Settlement on behalf of itself and the Yakama Indian Nation, the U.S. Forest Service, the U.S. Department of the Interior, the National Marine Fisheries Service, the Washington Department of Ecology, the Washington Department of Fish and Wildlife, American Rivers, American Whitewater Affiliation, Columbia Gorge Audubon Society, Columbia Gorge Coalition, Columbia River United, Federation of Fly Fishers, Friends of the Columbia Gorge, Friends of the Earth, Friends of the White Salmon, The Mountaineers, Rivers Council of Washington, The Sierra Club, Trout Unlimited, Washington Trout, the Washington Wilderness Coalition, and the Columbia River Intertribal Fish Commission.

The Offer of Settlement proposes retirement of the Condit Project and dam removal by December 2007. In addition, PacifiCorp requests an amendment of the current license to extend the license term through October 1, 2006 (increasing the term of the current license from 28 years to 41 years), and to incorporate the terms and conditions of the Settlement Agreement in the license.

m. Locations of the Application: A copy of the application is available for inspection and reproduction at the Commission's Public Reference Room, located at 888 First Street, NE, Room 2A, Washington, DC 20426, or by calling (202) 208-1371. The application may be viewed on the web at www.ferc.fed.us/online/rims.htm. Call (202) 208-2222 for assistance. A copy is also available for inspection and reproduction at the address in item h above.

n. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-2784 Filed 2-7-00; 8:45 am]

BILLING CODE 6717-01-M